ENVIRONMENTAL PROTECTION AGENCY

40 CFR Part 63

[EPA-HQ-OAR-2020-0560; EPA-HQ-OAR-2020-0535; EPA-HQ-OAR-2020-0572; EPA-HQ-OAR-2020-0148; EPA-HQ-OAR-2020-0505; EPA-HQ-OAR-2020-0532; FRL-10020-46-OAR]

RIN 2060-AU59; 2060-AU65; 2060-AU57; 2060-AU67; 2060-AU66; 2060-AU64

National Emission Standards for Hazardous Air Pollutants: Mercury Cell Chlor-Alkali Plants, Primary Magnesium Refining, Flexible Polyurethane Foam Fabrication Operations, Refractory Products Manufacturing, Carbon Black Production, and Cyanide Chemicals Manufacturing Residual Risk and Technology Reviews; Extension of Comment Periods

AGENCY: Environmental Protection Agency (EPA).

ACTION: Proposed rules; extension of public comment periods.

SUMMARY: The U.S. Environmental Protection Agency (EPA) is exending comment periods for proposed rules titled “National Emission Standards for Hazardous Air Pollutants: Mercury Cell Chlor-Alkali Plants Residual Risk and Technology Review” and “National Emission Standards for Hazardous Air Pollutants: Primary Magesium Refining Residual Risk and Technology Review,” published on January 8, 2021, “National Emission Standards for Hazardous Air Pollutants: Flexible Foam Fabrication Operations Residual Risk and Technology Review and Flexible Polyurethane Foam Production and Fabrication Area Source Technology Review,” published on January 11, 2021, “National Emission Standards for Hazardous Air Pollutants: Refractory Products Manufacturing Residual Risk and Technology Review” and “National Emission Standards for Hazardous Air Pollutants: Carbon Black Production Residual Risk and Technology Review,” published January 14, 2021, and “National Emission Standards for Hazardous Air Pollutants: Cyanide Chemicals Manufacturing Residual Risk and Technology Review,” published on January 15, 2021, to allow additional time for stakeholders to review and comment on the proposals.

DATES: The public comment periods for the proposed rules published in the Federal Register on January 8, 2021 (86 FR 1362 and 86 FR 1390), originally ending February 22, 2021, are being extended. Written comments may now be received on or before March 24, 2021.

The public comment period for the proposed rule published in the Federal Register on January 11, 2021 (86 FR 1868), originally ending February 25, 2021, is being extended. Written comments may now be received on or before March 29, 2021.

The public comment period for the proposed rules published in the Federal Register on January 14, 2021 (86 FR 3079 and 86 FR 3054) and January 15, 2021 (86 FR 3906), originally ending March 1, 2021, are being extended. Written comments may now be received on or before March 31, 2021.

ADDRESSES: Comments. Submit your comments, identified by the Docket ID Number corresponding to the proposed rule on which you are commenting (EPA-HQ-OAR-2020-0560; EPA-HQ-OAR-2020-0535; EPA-HQ-OAR-2020-0572; EPA-HQ-OAR-2020-0148560; EPA-HQ-OAR-2020-0505; or EPA-HQ-OAR-2020-0532) by any of the following methods:

• Federal eRulemaking Portal: https://www.regulations.gov/ (our preferred method). Follow the online instructions for submitting comments.

• Email: a-and-r-docket@epa.gov. Include the appropriate Docket ID No. in the subject line of the message.

• Fax: (202) 566-9744. Include the appropriate Docket ID No. on the fax cover page.

• Mail: U.S. Environmental Protection Agency, EPA Docket Center, Include the appropriate Docket ID No. based on the rule you are commenting on, Mail Code 28221T, 1200 Pennsylvania Avenue NW, Washington, DC 20460.

• Hand/Courier Delivery (by scheduled appointment only): EPA Docket Center, Room 3334, WJC West Building, 1301 Constitution Avenue NW, Washington, DC 20460. The Docket Center's hours of operation are 8:30 a.m.-4:30 p.m., Eastern Standard Time, Monday through Friday (except federal holidays).

Instructions: All submissions received must include the Docket ID No. for the rulemaking on which you are commenting. The EPA's policy is that all comments received may be posted without change to https://www.regulations.gov/, including any personal information provided, unless the comment includes information claimed to be confidential business information (CBI) or other information whose disclosure is restricted by statue.

Multimedia submissions (audio, video, etc.) must be accompanied by a written comment. The written comment is considered the official comment and should include discussion of all points you wish to make. The EPA will generally not consider comments or comment contents located outside of the primary submission (i.e., on the Web, cloud, or other file sharing system). For additional submission methods, the full EPA public comment policy, information about CBI or multimedia submissions, and general guidance on making effective comments, please visit https://www.epa.gov/dockets/commenting-epa-dockets.

The https://www.regulations.gov/ website allows you to submit your comment anonymously, which means the EPA will not know your identity or contact information unless you provide it in the body of your comment. If you send an email comment directly to the EPA without going through https://www.regulations.gov/, your email address will be automatically captured and included as part of the comment that is placed in the public docket and made available on the internet. If you submit an electronic comment, the EPA recommends that you include your name and other contact information in the body of your comment and with any digital storage media you submit. If the EPA cannot read your comment due to technical difficulties and cannot contact you for clarification, the EPA may not be able to consider your comment. Electronic files should not include special characters or any form of encryption and be free of any defects or viruses. For additional information about the EPA's public docket, visit the EPA's Docket Center homepage at https://www.epa.gov/dockets.

Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov/ or email, as there may be a delay in processing mail and faxes. For further information on EPA Docket Center services and the current status, please visit us online at https://www.epa.gov/dockets. Hand deliveries or couriers will be received by scheduled appointment only. For further information and updates on EPA Docket Center services, please visit us online at https://www.epa.gov/dockets. The EPA continues to carefully and continuously monitor information from the Centers for Disease Control and Prevention, local area health departments, and our federal partners so that we can respond rapidly as conditions change regarding COVID-19.

Submitting CBI. Do not submit information containing CBI to the EPA through https://www.regulations.gov/ or email. Clearly mark the part or all of the information that you claim to be CBI. For CBI information on any digital storage media that you mail to the EPA, mark the outside of the digital storage media as CBI and then identify electronically within the digital storage media the specific information that is claimed as CBI. In addition to one complete version of the comments that includes information claimed as CBI, you must submit a copy of the comments that does not contain the information claimed as CBI directly to the public docket through the procedures outlined in Instructions above. If you submit any digital storage media that does not contain CBI, mark the outside of the digital storage media clearly that it does not contain CBI. Information not marked as CBI will be included in the public docket and the EPA's electronic public docket without prior notice. Information marked as CBI will not be disclosed except in accordance with procedures set forth in 40 Code of Federal Regulations part 2. Send or deliver information identified as CBI only to the following address: OAQPS Document Control Officer (C404-02), OAQPS, U.S. Environmental Protection Agency, Research Triangle Park, North Carolina 27711, Attention {Include the appropriate Docket ID No. based on the rule you are commenting on}.

FOR FURTHER INFORMATION CONTACT: For questions about this proposed action, contact Brian Shrager, Sector Policies and Programs Division (D205-02), Office of Air Quality Planning and Standards, U.S. Environmental Protection Agency, Research Triangle Park, North Carolina 27711; telephone number: (919) 541-7689; fax number: (919) 541-4991; and email address: shrager.brian@epa.gov.

SUPPLEMENTARY INFORMATION: On January 8, 2021, the U.S. Environmental Protection Agency (EPA) proposed a rule titled “National Emission Standards for Hazardous Air Pollutants: Mercury Cell Chlor-Alkali Plants Residual Risk and Technology Review,” and a rule titled “National Emission Standards for Hazardous Air Pollutants: Primary Magesium Refining Residual Risk and Technology Review.” The EPA is extending the comment period on these proposed rules that currently closes on February 22, 2021. The comment periods will remain open until March 24, 2021, to allow additional time for stakeholders to review and comment on the proposals. On January 11, 2021, the EPA proposed a rule titled “National Emission Standards for Hazardous Air Pollutants: Flexible Foam Fabrication Operations Residual Risk and Technology Review and Flexible Polyurethane Foam Production and Fabrication Area Source Technology Review.” The EPA is extending the comment period on this proposed rule that currently closes on February 25, 2021. The comment period will remain open until March 29, 2021, to allow additional time for stakeholders to review and comment on the proposal. On January 14, 2021, the EPA proposed a rule titled “National Emission Standards for Hazardous Air Pollutants: Refractory Products Manufacturing Residual Risk and Technology Review,” and a rule titled “National Emission Standards for Hazardous Air Pollutants: Carbon Black Production Residual Risk and Technology Review,” and on January 15, 2021, the EPA proposed a rule titled “National Emission Standards for Hazardous Air Pollutants: Cyanide Chemicals Manufacturing Residual Risk and Technology Review.” The EPA is extending the comment periods on these proposed rules that currently closes on March 1, 2021. The comment periods will remain open until March 31, 2021, to allow additional time for stakeholders to review and comment on the proposals.

To allow for additional time for stakeholders to provide comments, the EPA has decided to extend the public comment periods as indicated in the DATES section of this document.

Dated: February 16, 2021.
Panagiotis Tsirigotis,
Director, Office of Air Quality Planning and Standards.

[FR Doc. 2021-03374 Filed 2-19-21; 8:45 am]

BILLING CODE 6560-50-P